DEPARTMENT OF HEALTH AND HUMAN SERVICES

Administration for Children and Families

Submission for OMB Review; Income Withholding for Support Order (OMB No.: 0970-0154)

AGENCY: Office of Child Support Services, Administration for Children and Families, U.S. Department of Health and Human Services.

ACTION: Request for public comments.

SUMMARY: The Office of Child Support Services (OCSS) (formerly the Office of Child Support Enforcement (OCSE), Administration for Children and Families (ACF), is requesting the federal Office of Management and Budget (OMB) to extend approval of the Income Withholding for Support Order (IWO), with minor changes, for an additional three years. The current OMB approval expires September 30, 2023.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The IWO is the required, standard form used to order, and notify, employers and income providers to withhold child support payments from an obligor's income. It is also used to notify employers and other income providers where to remit the payments, as well as other information needed to correctly withhold payments so that children and families receive the support to which they are entitled. On June 5, 2023, the Administration for Children and Families published a notice in the Federal Register (see 88 FR 36587) to announce a new official name for the former Office of Child Support Enforcement. As a result, all of the IWO instruments underwent revisions to change the “Office of Child Support Enforcement (OCSE)” to “Office of Child Support Services (OCSS).” The IWO form instructions underwent minor edits to clarify the language and OCSS augmented the instructions to include a sample form to improve the respondent's ability to properly complete the IWO Form. The burden estimates changed to reflect current estimates for the annual number of respondents and responses.

Respondents: Courts, private attorneys, custodial parties, or their representatives, employers, and other entities that provide income to noncustodial parents

Annual Burden Estimates
Information collection instrument | Total annual number of respondents | Total annual number of responses per respondent | Average burden hours per response | Total annual burden hours
Income withholding order/notice (Courts, private attorneys, custodial parties or their representatives) | 4,694,517 | 1 | 5 minutes | 391,210
Income withholding orders/termination of employment/income status (Employers and other income providers) | 1,277,952 | 8.01 | 2 minutes | 341,213
Electronic income withholding orders/termination of employment/income status (Employers and other income providers) | 33,746 | 67.70 | 30 seconds | 19,038

Estimated Total Annual Burden Hours: 751,461.

Authority: 42 U.S.C. 666(a)(1), (a)(8), and (b)(6).

Mary B. Jones,
ACF/OPRE Certifying Officer.

[FR Doc. 2023-14662 Filed 7-11-23; 8:45 am]

BILLING CODE P